DEPARTMENT OF HEALTH AND HUMAN SERVICES

Health Resources and Services Administration

Office of Rural Health Policy; Notice of Meetings

Name: Office of Rural Health Policy, Health Resources and Services Administration (HRSA), HHS.

Dates and Times: April 24, 2009, 8 a.m.—3 p.m. in Albuquerque, NM. May 18, 2009, 8 a.m.—3 p.m. in Seattle, WA. June 26, 2009, 8 a.m.—3 p.m. in Omaha, NE.

Place: The Albuquerque Marriott, 2101 Louisiana Boulevard, NE., Albuquerque, NM 87110, Phone: 505-881-6800.

The Seattle Airport Marriott, 3201 South 176th Street, Seattle, WA 98188, Phone: 206-241-2000.

The Omaha Marriott, 10220 Regency Circle, Omaha, NE 68114, Phone: 402-399-9000.

Status: The meetings will be open to the public.

Purpose: The Office of Rural Health Policy (ORHP) will hold a series of meetings to gather information on potential definitions of the terms Frontier or Remote Areas.

Currently the most widely used definition within the Department of Health and Human Services (DHHS) requires that the population density of a county consist of six or fewer persons per square mile. The use of whole counties as the unit of measurement can lead to inclusion of large population centers in large area counties that still have a low overall population density.

Use of population density alone as a measure of remoteness is also inappropriate for islands as the population density can far exceed 6 persons per square mile even though the island is isolated and lacks access to services and resources.

ORHP has used the Rural-Urban commuting area (RUCA) codes to identify rural areas located in Metropolitan counties. Metropolitan counties are defined by the Office of Management and Budget of the White House but can contain substantial rural areas due to geographic barriers, distance or other factors. RUCAs are based on a sub-county unit, the Census Tract, and take into account population density, urbanization, and daily commuting patterns. Every Census tract is assigned a code based on these factors. While ORHP has chosen to define Metropolitan tracts with RUCA codes from 4 through 10 as “rural” for purposes of grant eligibility, the codes have not been used to identify “Frontier” or remote areas.

In order to pursue a more accurate definition of Frontier/Remote areas, ORHP has entered into agreements with L. Gary Hart and the Economic Research Service (ERS) of the US Department of Agriculture (USDA). Dr. Hart and ERS also developed the RUCAs with support from ORHP. As work on this definition proceeds ORHP will hold a series of meetings to gather information from interested parties and the public.

While a robust, quantitative definition of Frontier/Remote areas may have future programmatic uses, the immediate goal of ORHP and ERS is to make this work available for research purposes.

For Further Information Contact: Direct requests for additional information to Mr. Steven Hirsch, Health Resources and Services Administration, Office of Rural Health Policy, Room 9A-55, 5600 Fishers Lane, Rockville, MD 20857, (301) 443-7322. E-mail: shirsch@hrsa.gov.

Dated: April 3, 2009.
Alexandra Huttinger,
Director, Division of Policy Review and Coordination.

[FR Doc. E9-8013 Filed 4-7-09; 8:45 am]

BILLING CODE 4165-15-P